Title 3—

The President

Proclamation 8469 of December 31, 2009

40th Anniversary of the National Environmental Policy Act, 2010

By the President of the United States of America

A Proclamation

Forty years ago, the National Environmental Policy Act (NEPA) was signed into law with overwhelming bipartisan support, ushering in a new era of environmental awareness and citizen participation in government. NEPA elevated the role of environmental considerations in proposed Federal agency actions, and it remains the cornerstone of our Nation’s modern environmental protections. On this anniversary, we celebrate this milestone in our Nation’s rich history of conservation, and we renew our commitment to preserve our environment for the next generation.

NEPA was enacted to “prevent or eliminate damage to the environment and biosphere and stimulate the health and welfare of man.” It established concrete objectives for Federal agencies to enforce these principles, while emphasizing public involvement to give all Americans a role in protecting our environment. It also created the Council on Environmental Quality to lead our Government’s conservation efforts and serve as the President’s environmental advisor.

America’s economic health and prosperity are inexorably linked to the productive and sustainable use of our environment. That is why NEPA remains a vital tool for my Administration as we work to protect our Nation’s environment and revitalize our economy. The American Recovery and Reinvestment Act of 2009 reaffirmed NEPA’s role in protecting public health, safety, and environmental quality, and in ensuring transparency, accountability, and public involvement in our Government.

Today, my Administration will recognize NEPA’s enactment by recommitting to environmental quality through open, accountable, and responsible decision making that involves the American public. Our Nation’s long-term prosperity depends upon our faithful stewardship of the air we breathe, the water we drink, and the land we sow. With smart, sustainable policies like those established under NEPA, we can meet our responsibility to future generations of Americans, so they may hope to enjoy the beauty and utility of a clean, healthy planet.

NOW, THEREFORE, I, BARACK OBAMA, President of the United States of America, by virtue of the authority vested in me by the Constitution and the laws of the United States, do hereby proclaim January 1, 2010, as the 40th Anniversary of the National Environmental Policy Act. I call upon all executive branch agencies to promote public involvement and transparency in their implementation of the National Environmental Policy Act. I also encourage every American to learn more about the National Environmental Policy Act and how we can all contribute to protecting and enhancing our environment.

IN WITNESS WHEREOF, I have hereunto set my hand this thirty-first day of December, in the year of our Lord two thousand nine, and of the Independence of the United States of America the two hundred and thirty-fourth.

[FR Doc. 2010-156

Filed 1-6-10; 8:45 am]

Billing code 3195-W0-P